DEPARTMENT OF COMMERCE

National Oceanic and Atmospheric Administration

50 CFR Part 660

[Docket No. 051014263-6028-03; I.D. 040506A]

Fisheries Off West Coast States and in the Western Pacific; Pacific Coast Groundfish Fishery; Specifications and Management Measures; Inseason Adjustments

AGENCY: National Marine Fisheries Service (NMFS), National Oceanic and Atmospheric Administration (NOAA), Commerce.

ACTION: Inseason adjustments to management measures; request for comments.

SUMMARY: NMFS announces changes to management measures in the recreational Pacific Coast groundfish fisheries. These actions, which are authorized by the Pacific Coast Groundfish Fishery Management Plan (FMP) are intended to protect overfished groundfish stocks, to reduce possible confusion in the public over differing state and Federal regulations, and to improve the ability to enforce groundfish regulations.

DATES: Effective 0001 hours (local time) April 11, 2006. Comments on this rule will be accepted through May 11, 2006.

ADDRESSES: You may submit comments, identified by I.D. 040506A, by any of the following methods:

• E-mail: GroundfishInseason7.nwr@noaa.gov. Include I.D. number 040506A in the subject line of the message.

• Federal eRulemaking Portal: www.regulations.gov. Follow the instructions for submitting comments.

• Mail: D. Robert Lohn, Administrator, Northwest Region, NMFS, 7600 Sand Point Way NE, Seattle, WA 98115-0070; or Rod McInnis, Administrator, Southwest Region, NMFS, 501 West Ocean Blvd, Suite 4200, Long Beach, CA 90802-4213. Attn: Jamie Goen.

• Fax: 206-526-6736, Attn: Jamie Goen.

FOR FURTHER INFORMATION CONTACT: Jamie Goen (Northwest Region, NMFS), phone: 206-526-6150; fax: 206-526-6736; or e-mail: jamie.goen@noaa.gov.

SUPPLEMENTARY INFORMATION:

Electronic Access

This Federal Register document is available on the Government Printing Office's Web site at: http://www.gpoaccess.gov/fr/index.html.

Background information and documents are available at the Pacific Fishery Management Council's (Pacific Council's) Web site at: http://www.pcouncil.org.

Background

The Pacific Coast Groundfish FMP and its implementing regulations at title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); December 5, 2005 (70 FR 723850); February 17, 2006 (71 FR 8489); and March 27, 2006 (71 FR 10545).

The changes to current groundfish management measures implemented by this action were recommended by the Pacific Council, in consultation with Pacific Coast Treaty Indian Tribes and the States of Washington, Oregon, and California, at its March 6-10, 2006, meeting in Seattle, WA. At that meeting, the Pacific Council recommended: (1) conforming Federal regulations to protective state measures taken in the Washington recreational groundfish fishery that prohibit retention of rockfish and lingcod in Federal waters from May 22 through September 30, 2006, in the area from the U.S. border with Canada to Queets River, WA (47°31.70′ N. lat.) except on days that halibut fishing is open, and that prohibit retention of rockfish and lingcod seaward of a line approximating the 30-fm (55-m) depth contour from March 18 through June 15, 2006 in the area from the Queets River to Leadbetter Point, WA (46°38.17′ N. lat.); and (2) conforming Federal regulations to protective state measures taken for the Oregon recreational groundfish fishery that set the marine fish bag limit off Oregon at 6 fish. These measures are also needed to conform Federal groundfish regulations with Federal halibut regulations implemented on March 5, 2006 (71 FR 10850, March 3, 2006).

Washington Recreational Fishery Management Measures

At the Pacific Council's March meeting, Washington Department of Fish and Wildlife (WDFW) reported on its recreational fishery management measures in 2005. WDFW had analyzed its 2005 fishery's catch and had found that the 2005 Washington recreational fishery had exceeded its harvest targets for yelloweye and canary rockfish. To ensure that its recreational fishery would not exceed 2006 rockfish harvest targets, WDFW developed state regulations in a series of public meetings held in December 2005 through February 2006. These regulations prohibit retention of rockfish and lingcod in WDFW Marine Areas 3 and 4 (from the U.S./Canada border to Queets River) in waters seaward of the 20-fm (36.9-m) depth contour from May 22 through September 30, 2006, except on days that the recreational halibut fishery is open. These regulations also prohibit retention of rockfish and lingcod in WDFW Marine Area 2 (from Queets River to Leadbetter Point) in waters seaward of a line approximating the 30-fm (55-m) depth contour from March 18 through June 15, 2006. Yelloweye and canary rockfish are shelf rockfish species and are less abundant in nearshore waters, so these regulations are designed to reduce the take of these species. The bulk of recreational fishing off the Washington coast occurs during spring and summer, with the more severe winter weather discouraging much recreational fishing during the remainder of the year.

All of the West Coast groundfish fisheries, including the recreational fishery, are subject to fishing area closures intended to reduce opportunities for incidental catch of overfished rockfish species. These area closures, known as Rockfish Conservation Areas (RCAs), are bounded by lines approximating fathom depth contours. NMFS provides latitude/longitude coordinates defining the RCA boundary lines at 50 CFR 660.390-660.394. Under Federal regulations at § 660.370, the boundaries of RCAs may be revised inseason, as needed to either increase protection for overfished species, or increase fisheries access to more healthy groundfish species. RCA boundaries may be shifted to any one of the boundary lines provided at §§ 660.391-660.394 using the routine management measure authority provided at § 660.370. Under FMP provisions in section 6.2, however, new routine management measures such as potential RCA boundary lines must be established through a two-meeting Council process and a Federal rulemaking with a public notice-and-comment process.

Federal regulations at § 660.391(b) provide latitude/longitude coordinates to approximate the 30-fm (55-m) depth contour. WDFW and the Pacific Council had recommended prohibiting retention of rockfish and lingcod seaward of the boundary line at § 660.391(b) that approximates the 30-fm (55-m) depth contour, between Queets River and Leadbetter Point, from March 18 through June 15, 2006. NMFS expects that implementing this recommendation would reduce recreational fisheries interactions with overfished rockfish. However, the agency could not complete this Federal Register action in time to implement the recommendation by March 18. State regulations may be more restrictive than Federal regulations, and Washington State regulations already in place prohibit fishing in this area seaward of the 30 fm (55 m) boundary line. NMFS nonetheless wishes to implement this protective measure as soon as possible, which is why it is effective in Federal waters beginning with the date of publication of this Federal Register document, April 11, 2006 through June 15, 2006.

There is no federally-designated RCA boundary at a line approximating the 20-fm (36.9-m) depth contour. Because the 20-fm (36.9-m) depth contour has not been established as a potential RCA boundary that can be made effective through a routine management measure, NMFS is unable to implement Federal regulations that exactly conform to the state closure. However, there are few areas off Washington where the 20-fm (36.9-m) depth contour is offshore of the 3-nautical mile boundary line between state and Federal waters. Therefore, the Pacific Council recommended that NMFS prohibit recreational fishing for rockfish and lingcod in the EEZ between the U.S./Canada border and the Queets River between May 22 and September 30, 2006, except on days when Pacific halibut fishing is open in that area, knowing that the state regulations would address state waters seaward of the 20-fm (36.9-m) depth contour during that same period. NMFS agrees with this Pacific Council recommendation and is implementing it via this document. NMFS announces open recreational fishing days for Pacific halibut on its halibut hotline, at (206)526 6667 or (800) 662 9825.

Oregon Recreational Fishery Management Measure

The Oregon Department of Fish and Wildlife (ODFW) also reported at the March 2006 Pacific Council meeting on management measures that the state had developed in late 2005 for its 2006 recreational fishery. In December 2005, the Oregon Fish and Wildlife Commission (Commission) refined management measures for the 2006 Oregon recreational groundfish fishery, based on angler effort patterns ODFW had observed in 2005. The 2005 Oregon recreational salmon season had been poor, which led more anglers to participate in the 2005 groundfish fishery than ODFW had expected at the start of 2005. In order to remain within the 2006 Oregon harvest guideline for black rockfish and to provide a 12-month fishing season for 2006, the Commission adopted a 6-fish marine fish bag limit, a reduction from the 10-fish limit previously in place. At the Pacific Council's March meeting, ODFW asked that the Pacific Council recommend to NMFS that Federal groundfish regulations conform to the more restrictive state marine fish bag limit, which the Pacific Council did. NMFS agrees that the 6-fish marine fish bag limit is likely to reduce effort in the Oregon recreational fishery, reduce opportunities for rockfish interception, and help keep the coastwide fisheries within the groundfish OYs. For this reason, and in order to reduce potential public confusion over differing state and Federal regulations and to improve the ability to enforce the regulations, NMFS is implementing the reduced marine fish bag limit via this document.

Conforming Federal Recreational Groundfish Regulations to Federal Recreational Halibut Regulations

The Pacific Council developed 2006 revisions to the Pacific Halibut Catch Sharing Plan and management measures for the 2006 recreational halibut fisheries during its September and November 2005 meetings. On January 30, 2006, NMFS published a proposed rule to implement the Pacific Council's recommended revisions to both the Catch Sharing plan and implementing regulations (71 FR 4876). The International Pacific Halibut Commission held its annual meeting January 16-20, 2006, where it set 2006 halibut catch levels for U.S. and Canadian waters. Following that meeting and the public comment period on the proposed rule for West Coast halibut fisheries, NMFS published a final rule implementing 2006 coastwide Pacific halibut fisheries regulations, for waters off the U.S. West Coast and Alaska (71 FR 10850, March 3, 2006). That final rule on the halibut fisheries included management measures that addressed allowable groundfish retention in the recreational halibut fisheries. Specifically, between Leadbetter Point, WA, and Cape Falcon, OR, no groundfish except sablefish and Pacific cod may be taken and retained, possessed or landed if halibut are onboard the vessel. And, between Cape Falcon and Humbug Mountain, OR, no groundfish except sablefish may be taken and retained, possessed or landed if halibut are onboard the vessel.

At the Pacific Council's March 2006 meeting, their Groundfish Management Team alerted the Council that halibut regulations developed through the halibut rulemaking process conflicted with groundfish regulations, which do not address retention of groundfish taken with halibut off Oregon. Washington recreational groundfish regulations had a prohibition on the retention of groundfish, except sablefish, if halibut were onboard but did not allow retention of Pacific cod. Therefore, in order to eliminate confusion between Federal halibut and groundfish regulations, the Pacific Council recommended that NMFS modify groundfish regulations to conform to halibut regulations. NMFS agrees that this revision is needed and is implementing the Pacific Council's recommendation for Washington and Oregon via this document.

Classification

These actions are taken under the authority of 50 CFR 660.370(c) and are exempt from review under Executive Order 12866.

These actions are authorized by the Pacific Coast groundfish FMP and its implementing regulations, and are based on the most recent data available. The aggregate data upon which these actions are based are available for public inspection at the Office of the Administrator, Northwest Region, NMFS, (see ADDRESSES) during business hours.

Pursuant to 5 U.S.C. 553(b)(B), there is good cause to waive prior notice and an opportunity for public comment on this action, as notice and comment would be impracticable and contrary to the public interest. The data upon which these recommendations were based was provided to the Pacific Council, and the Pacific Council made its recommendations at its March 6-10, 2006 meeting in Seattle, WA. There was not sufficient time after that meeting to draft this notice and undergo proposed and final rulemaking before these actions need to be in effect as explained below. For the actions to be implemented in this notice, prior notice and opportunity for comment would be impracticable and contrary to the public interest because affording the time necessary for prior notice and opportunity for public comment would impede the Agency's function of managing fisheries using the best available science to approach without exceeding the OYs for federally managed species. The adjustments to management measures in this document affect recreational fisheries off Washington and Oregon and must be implemented immediately to eliminate confusion for the public and to improve enforcement by ensuring that Federal and state recreational regulations conform to each other.

Revisions to recreational fishery management measures are needed to protect overfished groundfish species and to keep the harvest of other groundfish species within the harvest levels projected for 2006. Without these measures in place, the fisheries could risk exceeding harvest levels early in the year, causing early and unanticipated fishery closures and economic harm to the communities. It is unnecessary to provide a public notice-and-comment period on the measures that would be implemented to eliminate conflicts between Federal groundfish and halibut regulations because these measures have already been vetted through a public notice-and-comment process for the halibut regulations: proposed rule published January 30, 2006 (71 FR 4876), and final rule published March 3, 2006 (71 FR 10850). Making the groundfish regulations conform to the halibut regulations via this notice is a housekeeping measure and it is needed quickly in order to reduce confusion for the public and enforcement officers. Delaying any of these changes would keep management measures in place that are not based on the best available data and which could lead to early closures of the fishery if harvest of groundfish exceeds levels projected for 2006. This would be contrary to the public interest because it would impair achievement of one of the Pacific Coast Groundfish FMP objectives of providing for year-round harvest opportunities or extending fishing opportunities as long as practicable during the fishing year. Affording an opportunity for prior notice and comment on these regulatory revisions would also be contrary to the public interest because all of the measures implemented by this notice eliminate confusion for the public by removing conflicts between different regulations that affect the same waters and fisheries.

For these reasons, good cause also exists to waive the 30 day delay in effectiveness requirement under 5 U.S.C. 553 (d)(3).

List of Subjects in 50 CFR Part 660

Administrative practice and procedure, Fisheries, Fishing, Indians.

Dated: April 5, 2006.
Alan D. Risenhoover,
Acting Director, Office of Sustainable Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.384, paragraphs (c)(1) introductory text, (c)(1)(i)(B), and (c)(2)(iii) are revised to read as follows:

§ 660.384 Recreational fishery management measures.

* * * * *

(c) * * *

(1) Washington. For each person engaged in recreational fishing off the coast of Washington, the groundfish bag limit is 15 groundfish per day, including rockfish and lingcod, and is open year-round (except for lingcod). In the Pacific halibut fisheries, retention of groundfish is governed in part by annual management measures for Pacific halibut fisheries, which are published in the Federal Register. South of Leadbetter Point, WA to the Washington/Oregon border, when Pacific halibut are onboard the vessel, no groundfish may be taken and retained, possessed or landed, except sablefish and Pacific cod. The following sublimits and closed areas apply:

(i) * * *

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.]

(1) Between the U.S. border with Canada and the Queets River and from May 22 through September 30, 2006, taking and retaining, possessing or landing, any rockfish or lingcod in the EEZ is prohibited, except on days when the Pacific halibut fishery is open in this area. Days open to Pacific halibut recreational fishing off Washington are announced on the NMFS hotline at (206)526-6667 or (800)662-9825.

(2) Between the Queets River and Leadbetter Point, recreational fishing for rockfish and lingcod is prohibited seaward of a boundary line approximating the 30 fm (55 m) depth contour from April 11, 2006 through June 15, 2006. Coordinates for the boundary line approximating the 30 fm (55 m) depth contour are listed in § 660.391.

* * * * *

(2) * * *

(iii) Bag limits, size limits. The bag limits for each person engaged in recreational fishing in the EEZ seaward of Oregon are two lingcod per day, which may be no smaller than 24 in (61 cm) total length; and 6 marine fish per day, which excludes Pacific halibut, salmonids, tuna, perch species, sturgeon, sanddabs, lingcod, striped bass, hybrid bass, offshore pelagic species and baitfish (herring, smelt, anchovies and sardines), but which includes rockfish, greenling, cabezon and other groundfish species. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish. “All-depth” season days are established in the annual management measures for Pacific halibut fisheries, which are published in the Federal Register and are announced on the NMFS halibut hotline, 1-800-662-9825. The minimum size limit for cabezon retained in the recreational fishery is 16 in (41 cm) and for greenling is 10 in (26 cm). Taking and retaining canary rockfish and yelloweye rockfish is prohibited at all times and in all areas.

* * * * *

[FR Doc. 06-3468 Filed 4-10-06; 8:45 am]

BILLING CODE 3510-22-S